DEPARTMENT OF COMMERCE

National Oceanic and Atmospheric Administration

RIN 0648-XA67

Marine Mammals; File No. 42-1908

AGENCY: National Marine Fisheries Service (NMFS), National Oceanic and Atmospheric Administration (NOAA), Commerce.

ACTION: Notice; receipt of application.

SUMMARY: Notice is hereby given that Mystic Aquarium, 55 Coogan Boulevard, Mystic, CT 06355 (Dr. Lisa Mazzaro, Principal Investigator), has applied in due form for a permit to conduct research on Steller sea lions (Eumetopias jubatus) being held in captivity and to import and export parts from all cetaceans and pinniped species (excluding walrus) for purposes of scientific research.

DATES: Written, telefaxed, or e-mail comments must be received on or before July 9, 2007.

ADDRESSES: The application and related documents are available for review upon written request or by appointment in the following office(s):

Permits, Conservation and Education Division, Office of Protected Resources, NMFS, 1315 East-West Highway, Room 13705, Silver Spring, MD 20910; phone (301)713-2289; fax (301)427-2521; and

Northeast Region, NMFS, One Blackburn Drive, Gloucester, MA 01930-2298; phone (978)281-9300; fax (978)281-9394.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 42-1908.

FOR FURTHER INFORMATION CONTACT: Jennifer Skidmore or Amy Sloan, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

The applicant is requesting a scientific research and enhancement permit to continue activities authorized under Permit No. 42-1642-03 for the following two projects: Project 1: Mystic Aquarium's current Steller sea lion (SSL) collection consists of one intact adult male and three geriatric females. They are requesting authorization to (1) import or receive a second intact adult male SSL and subsequently return this animal to its facility of origin, if necessary; and (2) to import up to nine female SSL from the Vancouver Aquarium, and to receive a “non-releasable” one year old male SSL from The Marine Mammal Center in Sausalito, California. All of these animals will be incorporated into Mystic Aquarium's research program, which includes hormone monitoring and immune function, and vitamin and iron studies. Incidental to scientific research and enhancement activities, all of these animals will be on public display. At any one time the maximum number of adult male SSL maintained at Mystic Aquarium will be two and the number of females and pups will not exceed nine.

Project 2: The applicant requests authority to annually receive, import and export tissues from a maximum of 10,000 animals, up to 30 samples per animal per year (i.e., 5000 pinniped and 5000 cetaceans) under NMFS jurisdiction in the U.S. and abroad (i.e. worldwide). Sources of samples are from (1) captive animals (from routine husbandry sampling); (2) stranded animals abroad; (3) subsistence-hunted animals; (4) already permitted research projects; (5) animals that died incidental to commercial fishing in foreign countries where such taking is legal and specimens from animals that died incidental to U.S. commercial fishing operations; and (6) Navy dolphins. Mystic Aquarium also requests permission to export samples from stranded animals in the U.S. for research purposes. Samples will be analyzed for purposes of research on marine mammal health (e.g., nutrition, disease, immune function, environmental stressors).

Concurrent with the publication of this notice in the Federal Register, NMFS is forwarding copies of this application to the Marine Mammal Commission and its Committee of Scientific Advisors.

Dated: June 4, 2007.
P. Michael Payne,
Chief, Permits, Conservation and Education Division, Office of Protected Resources, National Marine Fisheries Service.

[FR Doc. E7-11056 Filed 6-7-07; 8:45 am]

BILLING CODE 3510-22-S